DEPARTMENT OF COMMERCE

National Oceanic and Atmospheric Administration

Proposed Information Collection; Comment Request; West Coast Region Groundfish Electronic Fish Ticket Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 25, 2019.

ADDRESSES: Direct all written comments to Adrienne Thomas, Government Information Specialist, NOAA, 151 Patton Avenue, Room 159, Asheville, NC 28801 (or via the internet at PRAcomments@doc.gov). Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Jahnava Duryea at (916) 930-3725 or email at jahnava.duryea@noaa.gov.

SUPPLEMENTARY INFORMATION:

I. Abstract

This request is for an extension of a currently approved information collection.

As part of its fishery management responsibilities, the National Oceanic and Atmospheric Administration (NOAA), National Marine Fisheries Service (NMFS) collects information to determine the amount and type of groundfish caught by fishing vessels. Electronic fish tickets are submissions of landings data from the first receiver to the Pacific States Marine Fisheries Commission (PSMFC) and NMFS. This collection supports requirements for participants of the Pacific Coast shorebased commercial groundfish fisheries (including the shorebased Individual Fishing Quota (IFQ) program, the limited entry fixed gear fishery, and the open access fixed gear fishery) to account for all landed catch and to send electronic catch data used to manage the catch allocations and limits. The respondents are principally shorebased first receivers.

II. Method of Collection

Electronic fish ticket data of landings data will be submitted from the first receiver to PSMFC. Shoreside first receivers, defined as persons who receive, purchase, or take custody, control, or possession of catch onshore directly from a vessel, are required to use a web-based, NMFS-approved electronic fish ticket program to send catch reports within 24 hours from the date of the landing. The electronic fish tickets are based on information currently required in state fish receiving tickets or landing receipts. The PSMFC currently receives and stores fish ticket data from the states. These data are maintained on the Pacific Fisheries Information Network (PacFIN) database.

III. Data

OMB Control Number: 0648-0738.

Form Number(s): None.

Type of Review: Regular submission.

Affected Public: Business or other for-profit organizations; Individuals or households; State, Local, or Tribal government.

Estimated Number of Respondents: 100.

Estimated Time per Response: 2-10 minutes. Electronic fish ticket filling and submission (Washington and California): 10 minutes. Electronic fish ticket submission (Oregon already requires electronic fish tickets, sending will be the only additional time/cost burden): 2 Minutes.

Estimated Total Annual Burden Hours: 666.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-20766 Filed 9-24-19; 8:45 am]

BILLING CODE 3510-22-P